DEPARTMENT OF DEFENSE

GENERAL SERVICES ADMINISTRATION

NATIONAL AERONAUTICS AND SPACE ADMINISTRATION

48 CFR Chapter 1

[Docket No. FAR-2024-0051, Sequence No. 6]

Federal Acquisition Regulation; Federal Acquisition Circular 2025-01; Introduction

AGENCY: Department of Defense (DoD), General Services Administration (GSA), and National Aeronautics and Space Administration (NASA).

ACTION: Summary presentation of interim rules.

SUMMARY: This document summarizes the Federal Acquisition Regulation (FAR) rules agreed to by the Civilian Agency Acquisition Council and the Defense Acquisition Regulations Council (Councils) in this Federal Acquisition Circular (FAC) 2025-01. A companion document, the Small Entity Compliance Guide (SECG), follows this FAC.

DATES: For effective dates see the separate documents, which follow.

ADDRESSES: The FAC, including the SECG, is available at https://www.regulations.gov.

FOR FURTHER INFORMATION CONTACT: The analyst whose name appears in the table below in relation to the FAR case. For information pertaining to status or publication schedules, contact the Regulatory Secretariat Division at 202-501-4755 or GSARegSec@gsa.gov.

Rules Listed in FAC 2025-01
Item | Subject | FAR case | Analyst
I | Prohibition on Unmanned Aircraft Systems from Covered Foreign Entities | 2024-002 | Collins.
II | Clarification of System for Award Management Preaward Registration Requirements | 2023-018 | Collins.

SUPPLEMENTARY INFORMATION: Summaries for each FAR rule follow. For the actual revisions and/or amendments made by these FAR rules, refer to the specific item numbers and subjects set forth in the documents following these item summaries. FAC 2025-01 amends the FAR as follows:

Item I—Prohibition on Unmanned Aircraft Systems From Covered Foreign Entities (FAR Case 2024-002)

This interim rule amends the FAR to implement a prohibition on procuring, operating, or using Federal funds on, unmanned aircraft systems (e.g., drones) that are manufactured or assembled by an American Security Drone Act-covered foreign entity. This rule implements the American Security Drone Act of 2023 (subtitle B, title XVIII of the National Defense Authorization Act for Fiscal Year 2024, Pub. L. 118-31, 41 U.S.C. 3901 note prec.). This rule applies to all solicitations and contracts, including contracts at or below the micro-purchase threshold and to contracts for commercial products (including commercially available off-the-shelf items) or for commercial services. The change is not expected to have a significant economic impact on a substantial number of small entities. This interim rule is being implemented as a national security measure to protect sensitive Government information and operations.

Item II—Clarification of System for Award Management Preaward Registration Requirements (FAR Case 2023-018)

This interim rule amends the FAR to clarify System for Award Management preaward registration requirements. Offerors are required to be registered at the time of proposal submission and at time of award, rather than continuously in between. This change is expected to have a positive impact on small businesses who have a minor lapse in registration.

William F. Clark,
Director, Office of Government-wide Acquisition Policy, Office of Acquisition Policy, Office of Government-wide Policy.

Federal Acquisition Circular (FAC) 2025-01 is issued under the authority of the Secretary of Defense, the Administrator of General Services, and the Administrator of National Aeronautics and Space Administration.

Unless otherwise specified, all Federal Acquisition Regulation (FAR) and other directive material contained in FAC 2025-01 is effective November 12, 2024.

John M. Tenaglia,
Principal Director, Defense Pricing, Contracting, and Acquisition Policy, Department of Defense.
Jeffrey A. Koses,
Senior Procurement Executive/Deputy CAO, Office of Acquisition Policy, U.S. General Services Administration.
Marvin L. Horne,
Deputy Assistant Administrator for Procurement, National Aeronautics and Space Administration.

[FR Doc. 2024-26060 Filed 11-8-24; 8:45 am]

BILLING CODE 6820-EP-P